DEPARTMENT OF THE INTERIOR

Bureau of Land Management

[UT-921-07-5870-HN]

Call for Nominations of Lands or Interest in Lands for Potential Purchase by the Federal Government in the State of Utah; Identification of Procedures for Identifying and Prioritizing Acquisition of Lands or Interest in Lands

AGENCY: Bureau of Land Management, Interior.

ACTION: Notice.

SUMMARY: In accordance with the Federal Land Transaction Facilitation Act of 2000 (43 U.S.C. 2303) (FLTFA), this notice seeks the nomination of property for possible acquisition by Federal agencies. The notice also provides information on the procedures established for (1) the identification of lands or interests in lands for which a landowner has indicated a desire to sell the lands or interest therein to the United States; and (2) the prioritization for acquisition of the in-holdings.

DATES: Nominations may be submitted at any time following the publication of this notice.

ADDRESSES: Nominations should be mailed to the agency listed below having jurisdiction over the federally designated area where the property is located. The nominations should be sent to the attention of the FLTFA Program Coordinator.

Bureau of Land Management, Utah State Office, P.O. Box 45155, Salt Lake City, UT 84145-0155.

National Park Service, Intermountain Region, P.O. Box 728, Santa Fe, NM 87504-0728.

USDA Forest Service, Intermountain Region, 324 25th Street, Ogden, UT 84401.

U.S. Fish and Wildlife Service, Mountain Prairie Region, Division of Realty, P.O. Box 25486, DFC, Lakewood, CO 80225-04868.

FOR FURTHER INFORMATION CONTACT: Joy Wehking, FLTFA Program Coordinator, BLM Utah State Office, 440 West 200 South, Suite 500, Salt Lake City, UT 84101; Phone: 801-539-4114; E-mail: joy_wehking@blm.gov.

SUPPLEMENTARY INFORMATION: In accordance with FLTFA, the four Federal agencies noted above are offering to the public an opportunity to nominate lands in the State of Utah for possible Federal acquisition. Under the provisions of FLTFA, only the following non-Federal lands are eligible for nomination: (1) Inholdings within a federally designated area; or (2) Lands or interests in lands adjacent to federally designated areas that contain exceptional resources. The term inholdings in lands means any right, title, or interest held by a non-Federal entity, in a tract of land that lies within the boundary of a federally designated area. A federally designated area is an area set aside for special management on or before July 25, 2000, including national parks, national wildlife refuges, national forests, national monuments, national conservation areas, national riparian conservation areas, national recreation areas, national scenic areas, areas of critical environmental concern, national outstanding natural areas, national natural landmarks, research natural areas, wilderness or wilderness study areas, and units of the Wild and Scenic Rivers System or National Trails System. The term exceptional resource refers to a resource of scientific, natural, historic, cultural or recreational value that has been documented by a Federal, state, or local government authority, and for which there is a compelling need for conservation and protection under the jurisdiction of a Federal agency in order to maintain the resource for the benefit of the public. Nominations meeting the above criteria may be submitted by any individual, group or governmental body. If submitted by a party other than the landowner, the nomination must be accompanied with a written confirmation from the landowner of their desire to sell. Nominations will only be considered eligible by the agencies if: (1) The nomination package is complete; (2) a Federal land use plan calls for acquisition of the land or interest in land being nominated; (3) the land does not contain a hazardous substance or is not otherwise contaminated; (4) the land would not be difficult or uneconomic to manage as Federal land; and (5) acceptable title can be conveyed in accordance with Federal title standards. The agencies will assess the nominations for public benefits in accordance with a jointly prepared State level Interagency Implementation Agreement for FLTFA and a National level Interagency Memorandum of Understanding among the agencies and will rank the nominations. The nomination and identification of an inholding does not obligate the landowner to convey the property nor does it obligate the United States to acquire the property. All Federal land acquisitions must be at fair market value consistent with applicable provisions of the Uniform Appraisal Standards for Federal Land Acquisitions.

Further information, including the required contents for a nomination package, and details of the Statewide Interagency Implementation Agreement, may be obtained by contacting Joy Wehking at the address noted above.

Authority: Sec. 204, Pub. L. 106-248 (43 U.S.C. 2301).

Selma Sierra,
State Director, Utah.

[FR Doc. E7-5881 Filed 3-29-07; 8:45 am]

BILLING CODE 4310-$$-P